ENVIRONMENTAL PROTECTION AGENCY

40 CFR Part 180

[EPA-HQ-OPP-2012-0001; FRL-9358-9]

Notice of Filing of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before September 21, 2012.

ADDRESSES: Submit your comments, identified by docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.htm.

Additional instructions on commenting or visiting the docket, along with more information about dockets generally, is available at http://www.epa.gov/dockets.

FOR FURTHER INFORMATION CONTACT: A contact person, with telephone number and email address, is listed at the end of each pesticide petition summary. You may also reach each contact person by mail at Biopesticides and Pollution Prevention Division (7511P) or Registration Division (7505P), Office of Pesticide Programs, Environmental Protection Agency, 1200 Pennsylvania Ave. NW., Washington, DC 20460-0001.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the agency taking?

EPA is announcing its receipt of several pesticide petitions filed under section 408 of the Federal Food, Drug, and Cosmetic Act (FFDCA), (21 U.S.C. 346a), requesting the establishment or modification of regulations in 40 CFR 180 for residues of pesticide chemicals in or on various food commodities. The Agency is taking public comment on the requests before responding to the petitioners. EPA is not proposing any particular action at this time. EPA has determined that the pesticide petitions described in this document contain the data or information prescribed in FFDCA section 408(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available online at http://www.regulations.gov.

As specified in FFDCA section 408(d)(3), (21 U.S.C. 346a(d)(3)), EPA is publishing notice of the petition so that the public has an opportunity to comment on this request for the establishment or modification of regulations for residues of pesticides in or on food commodities. Further information on the petition may be obtained through the petition summary referenced in this unit.

New Tolerances

1. PP 2E8012. (EPA-HQ-OPP-2012-0427). Interregional Research Project Number 4 (IR-4), 500 College Road East, Suite 201W., Princeton, NJ 08540, requests to establish tolerances in 40 CFR part 180 for residues of the fungicide tebuconazole, alpha-[2-(4-chlorophenyl)ethyl]-alpha-(1,1-dimethylethyl)-1H-1,2,4-triazole-1-ethanol, including its metabolites and degradates, in or on barley, grain at 0.3 parts per million (ppm); vegetable, cucurbit group 9 at 0.4 ppm; and vegetable, fruiting group 8-10 at 1.3 ppm. An enforcement method for plant commodities has been validated on various commodities. It has undergone successful EPA validation and has been submitted for inclusion in the Pesticide Analytical Manual, Vol. II (PAM II). The animal method has also been approved as an adequate enforcement method. Contact: Sidney Jackson, (703) 305-7610, email address: jackson.sidney@epa.gov.

2. PP 2E8016. (EPA-HQ-OPP-2012-0357). Interregional Research Project Number 4 (IR-4), 500 College Road East, Suite 201W., Princeton, NJ 08540, requests to establish tolerances in 40 CFR part 180 for residues of the insecticide hexythiazox (4-chlorophenyl)-4-methyl-2-oxo-3-thiazolidine moiety, in or on pepper/eggplant subgroup 8-10B at 1.5 ppm; fruit, pome, group 11-10 at 0.25 ppm; caneberry subgroup 13-07A at 1.0 ppm; fruit, small, vine climbing, except fuzzy kiwifruit, subgroup 13-07F at 1.0 ppm; and berry, low growing, subgroup 13-07G at 3.0 ppm. A practical analytical method, high pressure liquid chromatography (HPLC) with a ultra violet (UV) detector, which detects and measures residues of hexythiazox and its metabolites as a common moiety is available for enforcement purposes with a limit of detection that allows monitoring of food with residues at or above the levels set in this tolerance. Contact: Sidney Jackson, (703) 305-7610, email address: jackson.sidney@epa.gov.

3. PP 2E8018. (EPA-HQ-OPP-2012-0405). Syngenta Crop Protection LLC., P.O. Box 18300, Greensboro, NC 27419, requests to establish a tolerance in 40 CFR part 180 for residues of the insecticide emamectin benzoate, 4′-epi-methylamino-4′-deoxyavermectin B1 benzoate (a mixture of a minimum of 90% 4′-epi-methylamino-4′- deoxyavermectin B1a and a maximum of 10% 4′-epi-methlyamino-4′-deoxyavermectin B1b benzoate), and its metabolites 8,9 isomer of the B1a and B1b component of the parent insecticide, in or on imported wine at 0.005 ppm. Adequate analytical methods, HPLC-fluorescence methods, are available for enforcement purposes. Contact: Thomas Harris, (703) 308-9423, email address: harris.thomas@epa.gov.

4. PP 2E8025. (EPA-HQ-OPP-2012-0419). Interregional Research Project Number 4 (IR-4), 500 College Road East, Suite 201W., Princeton, NJ 08540, in cooperation with Valent U.S.A. Corporation, 1600 Riviera Ave., Suite 200, Walnut Creek, CA 94596, requests to establish tolerances in 40 CFR part 180 for residues of the herbicide imazosulfuron, (2-chloro-N-[[(4,6-dimethoxy-2-pyrimidinyl)amino]carbonyl] imidazo-[1,2-a]pyridine-3-sulfonamide), in or on tuberous and corm vegetables, crop subgroup 1C at 0.02 ppm; and in melon, crop subgroup 9A at 0.02 ppm. An independently validated analytical method has been submitted for analyzing parent imazosulfuron residues with appropriate sensitivity in all crop commodities for which tolerances are being requested. A revised analytical method using more ion transitions has also been provided. Contact: Andrew Ertman, (703) 308-9367, email address: ertman.andrew@epa.gov.

5. PP 2E8045. (EPA-HQ-OPP-2012-0583). BASF Corporation, 26 Davis Drive, Research Triangle Park, NC 27709, requests to establish import tolerances in 40 CFR part 180 for residues of the herbicide imazapyr, 2-[4,5-dihydro-4-methyl-4-(1-methylethyl)-5-oxo-]H-imidazol-2-yl]-3-pyridinecarboxylic acid, in or on rapeseed, crop subgroup 20A at 0.05 ppm; sunflower, crop subgroup 20B at 0.05 ppm; and lentils at 0.2 ppm. The proposed analytical method for detecting residues of imazapyr in canola and sunflower raw agricultural commodities (RACs) and processed commodity samples is an liquid chromatography/mass spectrometry (LC/MS/MS) method. The proposed analytical method for detecting residues of imazapyr in lentil RAC samples is an LC/MS/MS method. Enforcement methods for analysis of residues of imazapyr in animal commodities were included in prior submissions. M 3023 is a reliable capillary electrophoresis method with categorical exclusion/ultraviolet (CE/UV) detection for the determination of imazapyr residues in grass forage and grass hay. M 3184 is a reliable CE/UV method for the determination of imazapyr residues in meat, kidney, other meat byproducts, and fat of cattle, sheep, goats, and horses. M 3075 is a reliable CE/UV method for the determination of imazapyr residues in milk. Contact: Hope Johnson, (703) 305-5410, email address: johnson.hope@epa.gov.

6. PP 1F7872. (EPA-HQ-OPP-2011-0743). AGRIPHAR S.A., c/o CERES International LLC., 1087 Heartsease Drive, West Chester, PA 19382, requests to establish tolerances in 40 CFR part 180 for residues of the fungicide dodine (n-dodecylguanidine acetate), in or on stone fruits (group 12) at 5 ppm; tree nuts (group 14, except almond hulls) at 0.3 ppm; and almond, hulls (group 12) at 20 ppm. An adequate enforcement method using gas chromatography with mass selective detection (GC/MSD, Method 45137) is available for determining dodine residues in or on plant commodities. Concerning tree crops, a method using LC/MS/MS; METH1595.02 after the samples were extracted with methanol, was submitted. Adequate data collection method validation, independent laboratory validation (ILV), and radio-validation data for the method has been submitted. Since there is no reasonable expectation of finding residues of dodine in livestock or poultry, no analytical method for animal tissues is required. Contact: Tamue Gibson, (703) 305-9096, email address: gibson.tamue@epa.gov.

7. PP 1F7968. (EPA-HQ-OPP-2012-0480). Dow AgroSciences LLC., 9330 Zionsville Road, Indianapolis, IN 46268, requests to establish tolerances in 40 CFR part 180 for residues of the fungicide myclobutanil alpha-butyl-alpha-(4-chlorophenyl)-1 H-1,2,4-triazole-1-propanenitrile, including its metabolites and degradates, in or on commodities. Compliance with the tolerance levels specified is to be determined by measuring only myclobutanil alpha‐butyl-alpha‐(4‐chlorophenyl)‐1 H‐1,2,4‐triazole‐1‐propanenitrile and its alcohol metabolite (alpha‐(3‐hydroxybutyl)‐alpha‐ (4‐chlorophenyl)‐1 H‐1,2,4‐ triazole‐1‐propanenitrile (free and bound)), in or on grass, hay at 5 ppm; and grass, forage at 1.5 ppm. Proposed tolerances are in association with a use pattern of grasses grown for seed with a 45-day post-harvest interval (PHI) for hay harvest and a 45-day post-grazing interval (PGI) for grazing. This petition supports expansion of the current State Local Need (SLN) uses for grasses grown for seed to a full national Section 3 use. An adequate enforcement method is available for enforcement of tolerances in plants. Quantitation is by GC using a GC/nitrogen-specific detector (GC/NPD) for myclobutanil and a GC/electron capture detection (GC/ECD) for residues measured as the alcohol metabolite. Contact: Marcel Howard, (703) 305-6784, email address: howard.marcel@epa.gov.

8. PP 2F8015. (EPA-HQ-OPP-2012-0515). Chemtura Corporation, 199 Benson Road, Middlebury, CT 06749, requests to establish tolerances in 40 CFR part 180 for residues of the insecticide diflubenzuron, N-[[(4-chlorophenyl)amino]-carbonyl]-2,6-difluorobenzamide (DFB) and its metabolites 4-chlorophenylurea (CPU) and 4-chloroaniline (PCA), in or on orange, grapefruit, and lemon (citrus fruits crop group 10) at 1.3 ppm; and citrus oil processed commodity at 39 ppm. A practical analytical method for detecting and quantifying levels of diflubenzuron in or on food with a limit of detection that allows monitoring of the residue at or above the level set in the tolerance was used to determine residues in citrus raw agricultural commodities (RACs) and processed commodities. Residues of diflubenzuron (DFB) were quantitated by LC/MS/MS, and residues of the metabolites 4-chlorophenylurea (CPU) and 4-chloroaniline (PCA) were derivatized with HFBA and quantitated by GC/MS. Contact: Autumn Metzger, (703) 305-5314, email address: metzger.autumn@epa.gov.

9. PP 2F8038. (EPA-HQ-OPP-2012-0549). BASF Corporation, 26 Davis Drive, P.O. Box 13528, Research Triangle Park, NC, 27709-3528, requests to establish a tolerance in 40 CFR part 180 for residues of the fungicide pyraclostrobin, carbamic acid, [2-[[[1-(4-chlorophenyl)-1H-pyrazol-3-yl]oxy]methyl]phenyl]methoxy-, methyl ester and its metabolite methyl-N-[[[1-(4-chlorophenyl) pyrazol-3-yl]oxy]o-tolyl] carbamate (BF 500-3); expressed as parent compound, in or on sugarcane, cane at 0.2 ppm. No tolerances are proposed for the processed commodities, refined sugar and molasses, as no concentration of pyraclostrobin residues are expected in these commodities. In plants, the method of analysis is aqueous organic solvent extraction, column cleanup and quantitation by LC/MS/MS. In animals, the method of analysis involves base hydrolysis, organic extraction, column cleanup and quantitation by LC/MS/MS or derivatization (methylation) followed by quantitation by GC/MS. Contact: Dominic Schuler, (703) 347-0260, email address: schuler.dominic@epa.gov.

10. PP 2F8042. (EPA-HQ-OPP-2012-0514). K-I CHEMICAL U.S.A., INC., c/o Landis International, Inc., P.O. Box 5126, Valdosta, GA 31603-5126, requests to establish tolerances in 40 CFR part 180 for residues of the herbicide pyroxasulfone (3-[(5-(difluoromethoxy)-1-methyl-3-(trifluoromethyl) pyrazole-4-ylmethylsulfonyl]-4,5-dihydro-5,5-dimethyl-1,2-oxazole) and its metabolite M-3 (5-difluoromethoxy-1-methyl-3-trifluoromethyl-1H-pyrazol-4-carboxylic acid), in or on cotton, seed at 0.01 ppm; and pyroxasulfone (3-[(5-(difluoromethoxy)-1-methyl-3-(trifluoromethyl) pyrazole-4-ylmethylsulfonyl]-4,5-dihydro-5,5-dimethyl-1,2-oxazole) and its metabolite M-1 (5-difluoromethoxy-1-methyl-3-trifluoromethyl-1H-pyrazol-4-ylmethanesulfonic acid calculated as the stoichiometric equivalent of pyroxasulfone, in or on cotton, gin byproducts at 0.2 ppm. EPA has approved an analytical enforcement methodology including LC/MS/MS to enforce the tolerance expression for pyroxasulfone. Contact: Michael Walsh, (703) 308-2972, email address: walsh.michael@epa.gov.

11. PP 2F8047. (EPA-HQ-OPP-2012-0576). Arysta LifeScience North America, LLC., 15401 Weston Parkway, Suite 150, Cary NC 27513, requests to establish tolerances in 40 CFR part 180 for residues of the fungicide fluoxastrobin, (1E)-[2-[[6-(2-chlorophenoxy)-5-fluoro-4-pyrimidinyl]oxy]phenyl](5,6-dihydro-1,4,2-dioxazin-3-yl)methanone O-methyloxime and its Z isomer, (1Z)-[2-[[6-(2-chlorophenoxy)-5-fluoro-4-pyrimidinyl]oxy]phenyl](5,6-dihydro-1,4,2-dioxazin-3-yl)methanone O-methyloxime, in or on melon (subgroup 9A) at 1.5 ppm; sorghum, grain at 1.5 ppm; sorghum, forage at 4 ppm; and sorghum, stover at 4 ppm. Adequate analytical methodology is available for enforcement purposes. The method comprises microwave solvent extraction followed by a solid phase extraction cleanup and quantification by HPLC/MS/MS. Contact: Heather Garvie, (703) 308-0034, email address: garvie.heather@epa.gov.

Amended Tolerances

1. PP 2E8012. (EPA-HQ-OPP-2012-0427). Interregional Research Project Number 4 (IR-4), 500 College Road East, Suite 201W., Princeton, NJ 08540, requests to amend the tolerance in 40 CFR 180.474 for residues of the fungicide tebuconazole, alpha-[2-(4-chlorophenyl)ethyl]-alpha-(1,1-dimethylethyl)-1H-1,2,4-triazole-1-ethanol, including its metabolites and degradates by removing the following established tolerance, in or on vegetable, fruiting, group 8 at 1.3 ppm once the proposed tolerance for vegetable, fruiting group 8-10 at 1.3 ppm, under “New Tolerance” for PP 2E8012, has been established since the proposed new tolerance will supersede the existing tolerance. Contact: Sidney Jackson, (703) 305-7610, email address: jackson.sidney@epa.gov.

2. PP 2E8016. (EPA-HQ-OPP-2012-0357). Interregional Research Project Number 4 (IR-4), 500 College Road East, Suite 201W., Princeton, NJ 08540, requests to amend the tolerances in 40 CFR 180.448 for residues of the insecticide hexythiazox (4-chlorophenyl)-4-methyl-2-oxo-3-thiazolidine moiety, by removing the following established tolerances, in or on pome fruit crop group 11, caneberry subgroup 13A, grape, and strawberry once the proposed tolerances for pepper/eggplant subgroup 8-10B at 1.5 ppm; fruit, pome, group 11-10 at 0.25 ppm; caneberry subgroup 13-07A at 1.0 ppm; fruit, small, vine climbing, except fuzzy kiwifruit, subgroup 13-07F at 1.0 ppm; and berry, low growing, subgroup 13-07G at 3.0 ppm under “New Tolerance” for PP 2E8016, have been established since the proposed new tolerances will supersede the existing tolerances. Contact: Sidney Jackson, (703) 305-7610, email address: jackson.sidney@epa.gov.

3. PP 2E8036. (EPA-HQ-OPP-2012-0488). Syngenta Crop Protection, Inc., P.O. Box 18300, Greensboro, NC, 27419, requests to amend the tolerance in 40 CFR 180.565 for residues of the insecticide thiamethoxam [3-[(2-chloro-5-thiazolyl)methyl]tetrahydro-5-methyl-N-nitro-4H-1,3,5-oxadiazin-4-imine](CAS Reg. No. 153719-23-4) and its metabolite [N-(2-chloro-thiazol-5-ylmethyl)-N′-methyl-N′-nitro-guanidine], in or on coffee from 0.05 ppm to 0.2 ppm. Syngenta Crop Protection, Inc., has submitted practical analytical methodology for detecting and measuring levels of thiamethoxam in or on raw agricultural commodities. This method is based on crop specific cleanup procedures and determination by liquid chromatography (LC) with either UV or mass spectrometry (MS) detections. The limit of detection (LOD) for each analyte of this method is 1.25 nanogram (ng) injected for samples analyzed by UV and 0.25 ng injected for samples analyzed by MS, and the limit of quantification (LOQ) is 0.005 ppm for milk and juices, and 0.01 ppm for all other substrates. Contact: Julie Chao, (703) 308-8735, email address: chao.julie@epa.gov.

4. PP 1F7872. (EPA-HQ-OPP-2011-0743). AGRIPHAR S.A., c/o CERES International LLC., 1087 Heartsease Drive, West Chester, PA 19382, requests to amend the tolerances in 40 CFR 180.172 for residues of the fungicide dodine (n-dodecyl guanidine acetate) by removing the following established tolerances in or on cherry, sweet at 3 ppm; cherry, tart at 3 ppm; peach at 5 ppm; pecan at 0.3 ppm; and walnut at 0.3 ppm, upon approval of stone fruits (group 12); and tree nuts (group 14, except almond hulls) under “New Tolerance” for PP 1F7872. Contact: Tamue Gibson, (703) 305-9096, email address: gibson.tamue@epa.gov.

5. PP 1F7937. (EPA-HQ-OPP-2012-0455). BASF Corporation, 26 Davis Drive, P.O. Box 13528, Research Triangle Park, NC 27709-3528, requests to amend the tolerance in 40 CFR 180.617 by increasing the established tolerance for residues of the fungicide metconazole, 5-[(4-chlorophenyl)-methyl]-2,2-dimethyl-1-(1H-1,2,4-triazol-1-ylmethyl)cyclopentanol, measured as the sum of cis- and trans-isomers, in or on corn, sweet, stover from 4.5 ppm to 25.0 ppm. Independently validated analytical methods have been submitted for analyzing parent metconazole residues with appropriate sensitivity in the raw crop and processed commodities for sweet corn stover for which an increase in tolerance is being requested. Contact: Tamue Gibson, (703) 305-9096, email address: gibson.tamue@epa.gov.

6. PP 2F8009. (EPA-HQ-OPP-2012-0418). Syngenta Crop Protection, LLC., P.O. Box 18300, Greensboro, NC 27419-8300, requests to amend the tolerances in 40 CFR 180.449 for the combined residues of the insecticide avermectin B1(a mixture of avermectins containing greater than or equal to 80% avermectin B1a (5-O-demethyl avermectin A1) and less than or equal to 20% avermectin B1b (5-O-demethyl-25-de(1-methylpropyl)-25-(1-methylethyl) avermectin A1) and its delta-8,9-isomer, in or on cotton, delinted seed; and cotton, gin by-products from 0.005 ppm to 0.015 ppm; and strawberry from 0.02 ppm to 0.06 ppm. The analytical methods involve homogenization, filtration, partition, and cleanup with analysis by HPLC-fluorescence detection. The methods are sufficiently sensitive to detect residues at or above the tolerances proposed. All methods have undergone independent laboratory validation. Contact: Jessica Rogala, (703) 347-0263, email address: rogala.jessica@epa.gov.

New Tolerance Exemptions

1. PP 1E7843. (EPA-HQ-OPP-2012-0572). Diversey, Inc., 8310 16th St., Sturtevant, WI 53177, requests to establish an exemption from the requirement of a tolerance for residues of FD&C Red No. 40 (conforming to 21 CFR 74.340) when used as a pesticide inert ingredient (colorant) in no-rinse, food contact surface sanitizer (sanitizer) products. The full chemical name of FD&C Red No. 40 is 2-naphthalenesulfonic acid, 6-hydroxy-5-[(2-methoxy-5-methyl-4-sulfophenyl)azo]-, disodium salt (CAS No. 25956-17-6). Commonly used synonyms are Food Red No. 40 and FD&C Red No. 40 in the United States and Allura Red AC in Europe. The petitioner believes no analytical method is needed because it is not required for the establishment of a tolerance exemption for inert ingredients. Contact: Roger Chesser, (703) 347-8516, email address: chesser.roger@epa.gov.

2. PP 2E8004. (EPA-HQ-OPP-2012-0568). Sensient Colors, LLC., 2515 N. Jefferson Ave., St. Louis, MO 63106, requests to establish an exemption from the requirement of a tolerance for residues of FD&C Blue #1 (CAS No. 3844-45-9) when used as a pesticide inert ingredient for use as a seed treatment (dye) in pesticide formulations in accordance with 40 CFR 180.920 pre-harvest applications. FD&C Blue #1 is already approved as a pesticide inert ingredient and has existing tolerance exemptions under 40 CFR 180.910 pre- and post-harvest and 40 CFR 180.930 animal uses. The petitioner believes no analytical method is needed because it is not required for the establishment of a tolerance exemption for inert ingredients. Contact: Elizabeth Fertich, (703) 347-8560, email address: fertich.elizabeth@epa.gov.

3. PP 2E8010. (EPA-HQ-OPP-2012-0461). Rhodia Inc., c/o SciReg, Inc., 12733 Director's Loop, Woodbridge, VA 22192, requests to establish an exemption from the requirement of a tolerance for residues of the methyl 5-(dimethylamino)-2-methyl-5-oxopentanoate (CAS No. 1174627-68-9) and related reaction products, herein referred to as methyl 5-(dimethylamino)-2-methyl-5-oxopentanoate, under 40 CFR 180.910 when used as a pesticide inert ingredient in pesticide formulations. Rhodia, is requesting that methyl 5-(dimethylamino)-2-methyl-5-oxopentanoate be exempt from the requirement of a tolerance under 40 CFR 180.910. Therefore, Rhodia believes that an analytical method to determine residues in treated crops is not relevant. Contact: Mark Dow, (703) 305-5533, email address: dow.mark@epa.gov.

4. PP 2E8031. (EPA-HQ-OPP-2012-0469).Wellmark International, Central Life Sciences, 1501 East Woodfield Road, Suite 200 West, Schaumburg, IL 60173, requests to establish an exemption from the requirement of a tolerance for residues of diisopropyl adipate (CAS No. 6938-94-9) under 40 CFR 180.920 in or on all raw agricultural commodities when used as a pesticide inert ingredient in pesticide formulations applied pre-harvest, as a consequence of mosquito treatment in and around growing crops. Diisopropyl Adipate (DIPA) is currently used in non-food pesticide formulations and is now proposed for use in pesticide formulations intended to control mosquitoes in agricultural areas where food crops may receive incidental exposure. The petitioner believes no analytical method is needed because it is not required for the establishment of a tolerance exemption for inert ingredients. Contact: David Lieu, (703) 305-0079, email address: lieu.david@epa.gov.

5. PP 2E8033. (EPA-HQ-OPP-2012-0456). H.B. Fuller Company, 1200 Willow Lake Boulevard, Saint Paul, MN 55101, requests to establish an inert ingredient low risk polymer exemption from the requirement of a tolerance for residues of 2-propenoic acid, 2-ethylhexyl ester, polymer with ethenylbenzene (8,900 amu) (CAS No. 25153-46-2) under 40 CFR 180.960 when used as a pesticide inert binder ingredient for antimicrobial pesticide formulations. The petitioner believes no analytical method is needed because it is not required for the establishment of a tolerance exemption for inert ingredients. Contact: Mark Dow, (703) 305-5533, email address: dow.mark@epa.gov.

6. PP 2E8043. (EPA-HQ-OPP-2012-0491). Suterra LLC., 20950 NE. Talus Place, Bend, OR 97701, requests to establish an exemption from the requirement of a tolerance for residues of n-heptane (CAS No. 142-82-5) under 40 CFR 180.920 in or on raw agricultural commodities, when used as a pesticide inert ingredient in aerosol, pheromone mating disruption products only, and only in concentrations less than 40% of the total formulation, and applied to growing crops only. Suterra LLC., is applying for an exemption from the requirement of a tolerance for n-heptane under 40 CFR 180.920. Therefore, no analytical method to analyze for n-heptane is enclosed with this petition. Contact: David Lieu, (703) 305-0079, email address: lieu.david@epa.gov.

7. PP 2F8001. (EPA-HQ-OPP-2012-0591). EcoSMART Technologies, Inc., 20 Mansell Road, Suite 375, Roswell, GA 30076, requests to establish an exemption from the requirement of a tolerance for residues of the biochemical pesticide 2-phenethyl propionate (2-pep) (CAS No. 122-70-3) and its degradates phenethyl alcohol (PEA) (CAS No. 60-12-8) and propionic acid (CAS No. 79-09-4), in or on all food commodities. The petitioner believes no analytical method for residues is required because it is expected that, when used as proposed, 2-pep, and its degradates PEA and propionic acid, would not result in residues that are of toxicological concern. Contact: Cheryl Greene, (703) 308-0352, email address: greene.cheryl@epa.gov.

List of Subjects

Environmental protection, Agricultural commodities, Feed additives, Food additives, Pesticides and pests, Reporting and recordkeeping requirements.

Dated: August 10, 2012.
Daniel J. Rosenblatt,
Acting Director, Registration Division, Office of Pesticide Programs.

[FR Doc. 2012-20655 Filed 8-21-12; 8:45 am]

BILLING CODE 6560-50-P